DEPARTMENT OF DEFENSE

GENERAL SERVICES ADMINISTRATION

NATIONAL AERONAUTICS AND SPACE ADMINISTRATION

48 CFR Parts 45 and 52

Federal Acquisition Regulation; Government Property

AGENCIES: Department of Defense (DoD), General Services Administration (GSA), and National Aeronautics and Space Administration (NASA).

ACTION: Notice of public meeting.

SUMMARY: DoD, GSA, and NASA are sponsoring a public meeting to discuss potential changes to the Federal Acquisition Regulation (FAR) regarding Government property in the possession of contractors (FAR Parts 45 and 52). To facilitate an open dialogue between the Government and interested parties, a public meeting is being held.

DATES: The meeting will be held on April 13, 2004, from 9 a.m. to 4 p.m., local time.

ADDRESSES: The meeting will be held at the Logistics Management Institute, 2000 Corporate Ridge, Room 2056 (DAU 1/2), Second Floor, McLean, VA 22102-7805. General Phone: 703-917-9800. To adequately accommodate for space, please RSVP to Tom Ruckdaschel at e-mail address tom.ruckdaschel@osd.mil. Any comments intended to be considered as a public comment must be submitted separately as a public comment as instructed in any future proposed rule.

FOR FURTHER INFORMATION CONTACT: Mr. Tom Ruckdaschel, Office of the Under Secretary of Defense (Acquisition, Technology and Logistics), at (703) 604-6350 x101, or tom.ruckdaschel@osd.mil. A copy of the draft document to be discussed at the meeting can be obtained from Michael.Canales@osd.mil or can be downloaded at the following Web site: http://www.acq.osd.mil/uid/.

Special Accommodations: The public meeting is physically accessible to people with disabilities. Request for sign language interpretation or other auxiliary aids should be directed to Tom Ruckdaschel (703-604-6350 x101) at least 5 days prior to the meeting date.

SUPPLEMENTARY INFORMATION: DoD, GSA, and NASA have drafted a new approach to Government Property (FAR Parts 45 and 52) and will be discussing the potential changes at a public meeting. The draft revisions take a more commercial approach to property stewardship and recordkeeping responsibilities and significantly reduce the number of property clauses in FAR Part 52.

Dated: March 25, 2004.
Laura Auletta,
Director, Acquisition Policy Division.

[FR Doc. 04-7343 Filed 4-1-04; 8:45 am]

BILLING CODE 6820-EP-P